DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 17, 2008.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

This notice of receipt of applications for special permit is published in accordance with Part 107 of the Federal hazardous materials transportation law (49 U.S.C. 5117(b); 49 CFR 1.53(b)).

Issued in Washington, DC, on December 12, 2007.
Delmer F. Billings,
Director, Office of Hazardous Materials, Special Permits and Approvals.

New Special Permits
Application No. | Docket No. | Applicant | Regulation(s) affected | Nature of special permits thereof
14613-N |  | Valero St. Charles, Norco, LA | 49 CFR Subpart C of Part 172 | To authorize the transportation in commerce of certain hazardous materials without shipping paper documentation when transported across public roads within the Valero facility. (mode 1)
14614-N |  | Great Lakes Chemicals Corporation, West Lafayette, IN | 49 CFR | To authorize the transportation in commerce of non-DOT specification cylinders manufactured in the U.S. for export with valving and relief device requirements of the country that the cylinders will be exported to for use in transporting various compressed gases. (modes 1, 3)
14615-N |  | SET Environmental Inc., Houston, TX | 49 CFR 173.244 | To authorize the one-time, one-way transportation in commerce of three irregularly shaped sodium dispersion vessels in alternative packaging. (mode 1)
14616-N |  | Chlorine Service Company, Kingwood, TX | 49 CFR 178.245-1(a) | To authorize the manufacture, marking, sale and use of certain DOT Specification 51 steel portable tanks or UN steel portable tanks conforming with Section VIII, Division 2 of the ASME Code instead of Section VIII, Division 1, for the transportation in commerce of Division 2.1 and 2.2 materials. (modes 1, 2, 3)
14617-N |  | Western International Gas & Cylinders, Inc., Bellville, TX | 49 CFR 172.203(a), 172.301(c), 180.205(f)(4), 180.205(g), 180.209(a) | To authorize the transportation in commerce of certain compressed gases in DOT specification 3A and 3AA cylinders when retested by 100 percent ultrasonic examination and external visual inspection in lieu of internal visual inspection and the hydrostatic retest. (modes 1, 2, 3, 4, 5)
14618-N |  | Carrier Transicold, Athens, GA | 49 CFR 177.834(1)(2)(i) | To authorize the use cargo heaters in a motor vehicle when transporting flammable liquids or flammable gases in commerce. (mode 1)
14619-N |  | EXEA Corporation, Dallas, TX | 49 CFR 179.13 | To authorize the transportation in commerce of DOT Specification 105S100W tank cars having a maximum gross weight on rail of 286,000 pounds. (mode 2)
14620-N |  | Air Products and Chemicals, Inc., Allentown, PA | 49 CFR 177.834(h) | To authorize filling and discharging of a DOT Specification 4L cylinder with certain Division 2.2 compressed gases without removal from the transport vehicle. (mode 1)
14621-N |  | Beijing Tianhai Industry Co., Ltd., Beijing | 49 CFR 173.302a and 180.205 | To authorize the manufacture, mark, sale, and use of non-DOT specification fully wrapped carbon-fiber reinforced aluminum lined cylinders. (modes 1, 2, 3, 4, 5)
14622-N |  | Occidental Chemical Corporation, Dallas, TX | 49 CFR 179.15(e) | To authorize the transportation in commerce of certain DOT specification 105J500W tank cars containing Chlorine that do not meet the start-to-discharge requirements for pressure relief devices. (mode 2)
14623-N |  | Formulated Solutions, Clearwater, FL | 49 CFR 173.306(a)(3)(v) | To authorize the manufacture, marking, sale and use of a bag-on-valve container for the transportation of non-flammable aerosols which have been tested by an alternative method in lieu of the hot water bath test. (modes 1, 2, 3, 4, 5)

[FR Doc. 07-6078 Filed 12-17-07; 8:45 am]

BILLING CODE 4909-60-M